DEPARTMENT OF DEFENSE

Office of the Secretary

[Docket ID: DoD-2024-OS-0084]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by January 15, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and Omb Number: Overseas Citizen Population Survey; OMB Control Number 0704-0539.

Type of Request: Revision.

Number of Respondents: 18,000.

Responses per Respondent: 1.

Annual Responses: 18,000.

Average Burden per Response: 15 minutes.

Annual Burden Hours: 4,500.

Needs and Uses: The information collection requirement is necessary for the Federal Voting Assistance Program (FVAP), an agency of the DoD, to fulfill the mandate of the Uniformed and Overseas Citizens Absentee Voting Act (UOCAVA of 1986 [52 U.S.C. 10301]). UOCAVA requires a statistical analysis report to the President and Congress on the effectiveness of assistance under the Act, a statistical analysis of voter participation, and a description of State/Federal cooperation. The data obtained through this study will allow FVAP to refine its methodology for estimating the number of overseas U.S. civilians who are eligible to vote and who have registered and participated in the past, and using these estimates to address the question of whether the registration and voting propensity of the overseas civilian population differs from that of a comparable domestic or military population. Conducting this research will help FVAP meet its Federal and congressional mandates in terms of reporting annually on its activities and on overall voter registration and participation rates after each Presidential election. The data obtained through this study is also intended to provide insights into existing barriers to UOCAVA voting and recommendations for addressing these challenges.

Affected Public: Individuals or households.

Frequency: On occasion.

Respondent's Obligation: Voluntary.

DOD Clearance Officer: Mr. Reginald Lucas.

Dated: December 11, 2024.
Aaron T. Siegel,
Alternate OSD Federal Register Liaison Officer, Department of Defense.

[FR Doc. 2024-29591 Filed 12-13-24; 8:45 am]

BILLING CODE 6001-FR-P